DEPARTMENT OF TRANSPORTATION

Federal Motor Carrier Safety Administration

[Docket No. FMCSA-2005-22530]

Submission for Office of Management and Budget Approval and Public Comment Request

AGENCY: Federal Motor Carrier Safety Administration (FMCSA), Department of Transportation (DOT).

ACTION: Request for public comments and Office of Management and Budget (OMB) approval of an existing collection.

SUMMARY: This notice seeks comments from the public regarding the need for FMCSA to collect paperwork information that relates to a motor carrier's responsibility for ensuring that employees safely maintain and operate its commercial motor vehicles. This notice is published (pursuant to the Paperwork Reduction Act of 1995) to measure the need for the proposed paperwork collection, to find ways to minimize the burden on motor carriers, to find ways to enhance the quality of information collected, and to verify the accuracy of the agency's estimate of the burden (measured in work hours) on motor carriers. This is a request to continue the collection of information already approved under OMB Control Number 2126-0003, which is scheduled to expire on December 31, 2005, and to renew that approval.

DATES: Comments must be submitted on or before December 19, 2005.

ADDRESSES: You may submit written comments to the docket by any of the following methods:

• Mail: Dockets Facility, U.S. Department of Transportation, Room PL-401, 400 Seventh Street, SW., Washington, DC 20590-0001. Anyone wanting confirmation of mailed comments must include a self-addressed stamped postcard.

• Hand delivery or courier: Room PL-401 on plaza level of the Nassif Building, 400 Seventh Street, SW., Washington DC. The Dockets Facility is open from 10 a.m. to 5 p.m., Monday through Friday, except on Federal holidays.

• Web site: Go to http://dms.dot.gov, click on “Comments/Submissions” and follow instructions at the site.

All written comments should identify the docket number and notice number stated in the heading of this notice.

Docket access: For copies of this notice or other materials in the docket, you may contact the Dockets Facility by phone (202-366-9329) or visit the facility at the above street address. For Web access to the dockets to read and download filed material, go to http://dms.dot.gov/search. Then type in the last four digits of the docket number shown in the heading of this notice, and click on “Search.”

Anyone can search the electronic form of all comments filed in any of our dockets by the name of the individual submitting the comment (or signing the comment, if submitted for an association, business, labor union, etc.). You may review DOT's complete Privacy Act Statement in the April 11, 2000 issue of the Federal Register (65 FR 19477) or go to http://dms.dot.gov.

Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

FOR FURTHER INFORMATION CONTACT: Mr. Jeffrey Van Ness, (202) 366-8802, Vehicle and Roadside Operations Division (MC-PSV), Federal Motor Carrier Safety Administration, U.S. Department of Transportation, 400 Seventh Street, SW., Washington, DC 20590. Office hours are from 8 a.m. to 5 p.m., e.t., Monday through Friday, except Federal holidays.

SUPPLEMENTARY INFORMATION: The Secretary of Transportation (Secretary) is authorized under the provisions of 49 U.S.C. 31502 to prescribe requirements for qualifications and maximum hours-of-service of employees of, and safety and equipment standards of, motor carriers that operate commercial motor vehicles (CMVs) in interstate commerce. Under 49 U.S.C. 31136, the Secretary also has authority to prescribe regulations to ensure that CMVs are maintained, equipped, loaded and operated safely; and under 49 U.S.C. 31143 to establish standards for annual or more frequent inspections of CMVs under the provisions of U.S.C. 31142. The Secretary's authority to establish improved standards or methods to ensure brakes and brake systems of CMVs are inspected by appropriate employees and maintained properly is provided under 49 U.S.C. 31137(b).

Motor carriers must maintain, or require maintenance of, records documenting the inspection, repair and maintenance activities performed on their owned and leased vehicles. There are no prescribed forms. Electronic recordkeeping is allowed for all records except for those requiring a signature (i.e., driver vehicle inspection reports) (See 49 CFR 390.31(d)). FMCSA allows electronic driver vehicle inspection reports if certain conditions are satisfied. The records are used by the FMCSA and its representatives to verify motor carriers' compliance with the inspection, repair, and maintenance standards in 49 CFR part 396 of the Federal Motor Carrier Safety Regulations.

Type of Information Collection Request: Renewal of an existing information collection.

Title of Information Collection: Inspection, Repair, and Maintenance.

OMB Approval Number: 2126-0003.

Frequency: Annual and on occasion.

Use: This collection is used by FMCSA to ensure that motor carriers have adequate documentation of their systematic inspection, repair, and maintenance programs necessary to reduce the likelihood of CMV accidents.

Estimated Number of Respondents: 406,843.

Respondents: Motor carriers, commercial motor vehicle drivers.

Total Annual Hours Requested: 34,798,257.

Issued on: October 13, 2005.
Annette M. Sandberg,
Administrator.

[FR Doc. 05-20888 Filed 10-18-05; 8:45 am]

BILLING CODE 4910-EX-P